DEPARTMENT OF COMMERCE

International Trade Administration

[A-570-601]

Tapered Roller Bearings and Parts Thereof, Finished and Unfinished, From the People's Republic of China; Preliminary Results of 1998-1999 Administrative Review, Partial Rescission of Review, and Notice of Intent To Revoke Order in Part

AGENCY: Import Administration, International Trade Administration, Department of Commerce.

ACTION: Notice of preliminary results of 1998-1999 administrative review, partial rescission of the review, and notice of intent to revoke order in part.

SUMMARY: We preliminarily determine that sales of tapered roller bearings and parts thereof, finished and unfinished, from the People's Republic of China, were made below normal value during the period June 1, 1998, through May 31, 1999. If these preliminary results are adopted in our final results of review, we will instruct the U.S. Customs Service to assess antidumping duties based on the differences between the U.S. price and normal value on all appropriate entries.

China National Machinery Import & Export Corporation, Wafangdian Bearing Group Corp. Import & Export Company, Wanxiang Group Corporation, and Zhejiang Machinery Import & Export Corp. have requested revocation of the antidumping duty order in part. Based on record evidence, we preliminarily find that three of the four companies qualify for revocation. As such, we intend to revoke the order with respect to the subject merchandise produced and exported by these companies.

Interested parties are invited to comment on these preliminary results.

EFFECTIVE DATE: July 7, 2000.

FOR FURTHER INFORMATION CONTACT: Zak Smith or Melani Miller, Import Administration, International Trade Administration, U.S. Department of Commerce, 14th Street and Constitution Avenue, NW., Washington DC 20230; telephone (202) 482-0189 and (202) 482-0116, respectively.

SUPPLEMENTARY INFORMATION:

Applicable Statute

Unless otherwise indicated, all citations to the Tariff Act of 1930, as amended (“the Act”), are references to the provisions effective January 1, 1995, the effective date of the amendments made to the Act by the Uruguay Round Agreements Act (“URAA”). In addition, all references to the Department of Commerce's (“the Department's”) regulations are to 19 CFR part 351 (April 1999).

Background

On May 27, 1987, the Department published in the Federal Register (52 FR 19748) the antidumping duty order on tapered roller bearings and parts thereof, finished and unfinished (“TRBs”), from the People's Republic of China (“PRC”). The Department notified interested parties of the opportunity to request an administrative review of this order on June 9, 1999 (64 FR 30962). On June 21, 1999, Wafangdian Bearing Group Corp. Import & Export Company (“Wafangdian”) and Zhejiang Machinery Import & Export Corp. (“ZMC”) requested administrative reviews. On June 24, 1999, Wanxiang Group Corporation (“Wangxiang”) and China National Machinery Import & Export Corporation (“CMC”) requested administrative reviews. Wafangdian, ZMC, Wangxiang, and CMC also requested that the Department revoke the antidumping duty order as it pertains to them. On June 30, 1999, the petitioner, The Timken Company, requested that the Department conduct an administrative review of the antidumping duty order on hundreds of PRC TRB exporters. In accordance with 19 CFR 351.221(b)(1), we published a notice of initiation of this antidumping duty administrative review on July 29, 1999 (64 FR 41075).

On September 1, 1999, we sent a questionnaire to the Secretary General of the Basic Machinery Division of the Chamber of Commerce for Import & Export of Machinery and Electronics Products and requested that the questionnaire be forwarded to all PRC companies identified in our initiation notice and to any subsidiary companies of the named companies that produce and/or export the subject merchandise. In this letter, we also requested information relevant to the issue of whether the companies named in the initiation notice are independent from government control. See the Separate Rates Determination section, below. Courtesy copies of the questionnaire were also sent to companies with legal representation.

We received responses to the questionnaire from the following ten companies: CMC, Liaoning MEC Group Co. Ltd. (“Liaoning”), Luoyang Bearing Corp. (Group) (“Luoyang”), Premier Bearing & Equipment Ltd. (“Premier”), Tianshui Hailin Import and Export Corporation and Hailin Bearing Factory (“Hailin”), Wafangdian, Wanxiang, Weihai Machinery Holding (Group) Co., Ltd. (“Weihai”), ZMC, and Zhuzhou Torch Spark Plug Co., Ltd. (“Torch”).

In addition, on October 8, 1999, Zhejiang Changshan Changhe Bearing Corp. (“ZCCBC”) reported no shipments of subject merchandise to the United States during the period of review (“POR”), June 1, 1997, through May 31, 1998, other than those shipments already being examined by the Department as part of ZCCBC's new shipper review. Therefore, in accordance with section 351.213(d)(3) of our regulations, we preliminarily conclude that there were no applicable shipments from ZCCBC to the United States during the POR and are rescinding the review with respect to this company. However, we will confirm with the Customs Service that ZCCBC had no shipments prior to issuing the final results.

The Department is conducting this administrative review in accordance with section 751 of the Act.

Scope of Review

Merchandise covered by this review includes TRBs and parts thereof, finished and unfinished, from the PRC; flange, take up cartridge, and hanger units incorporating tapered roller bearings; and tapered roller housings (except pillow blocks) incorporating tapered rollers, with or without spindles, whether or not for automotive use. This merchandise is currently classifiable under the Harmonized Tariff Schedule of the United States (“HTSUS”) item numbers 8482.20.00, 8482.91.00.50, 8482.99.30, 8483.20.40, 8483.20.80, 8483.30.80, 8483.90.20, 8483.90.30, 8483.90.80, 8708.99.80.15, and 8708.99.80.80. Although the HTSUS item numbers are provided for convenience and customs purposes, the written description of the scope of the order and this review is dispositive.

Separate Rates Determination

As discussed below in the Normal Value section of this notice, we are treating the PRC as a nonmarket economy (“NME”) country within the meaning of section 773(c) of the Act. We allow companies in NMEs to receive separate antidumping duty rates for purposes of assessment and cash deposits when those companies can demonstrate an absence of government control, both in law and in fact, with respect to export activities.

To establish whether a company operating in a NME is sufficiently independent to be entitled to a separate rate, the Department analyzes each exporting entity under the test established in the Final Determination of Sales at Less Than Fair Value: Sparklers from the People's Republic of China, 56 FR 20588 (May 6, 1991) (“Sparklers”), as amplified by the Final Determination of Sales at Less Than Fair Value: Silicon Carbide from the People's Republic of China, 59 FR 22585 (May 2, 1994) (“Silicon Carbide”). Evidence supporting, though not requiring, a finding of de jure absence of government control over export activities includes: (1) An absence of restrictive stipulations associated with the individual exporter's business and export licenses; (2) any legislative enactments decentralizing control of companies; and (3) any other formal measures by the government decentralizing control of companies. De facto absence of government control over exports is based on four factors: (1) Whether each exporter sets its own export prices independently of the government and without the approval of a government authority; (2) whether each exporter retains the proceeds from its sales and makes independent decisions regarding the disposition of profits or financing of losses; (3) whether each exporter has the authority to negotiate and sign contracts and other agreements; and (4) whether each exporter has autonomy from the government regarding the selection of management (see Silicon Carbide, 59 FR at 22587, and Sparklers, 56 FR at 20589).

In previous administrative reviews of the antidumping duty order on TRBs from the PRC, we determined that CMC, Liaoning, Luoyang, Hailin, Wafangdian, Wanxiang, Weihai, and ZMC, should receive separate rates (see, e.g., Tapered Roller Bearings and Parts Thereof, Finished and Unfinished, From the People's Republic of China; Final Results of 1996-1997 Antidumping Duty Administrative Review and New Shipper Review and Determination Not to Revoke Order in Part, 63 FR 63842 (November 17, 1998) (“TRBs X”)). We preliminarily determine that the evidence on the record of this review also demonstrates an absence of government control, both in law and in fact, with respect to these companies' exports according to the criteria identified in Sparklers and Silicon Carbide. The evidence in question consisted of, among other things, the companies' business licenses and copies of relevant PRC laws on trade and incorporation. Therefore, we have continued to assign each of these companies a separate rate.

Premier is a privately owned Hong Kong trading company which purchases TRBs from the PRC for resale throughout the world. Because Premier's PRC-based suppliers do not know the destination of their merchandise, we have determined that Premier, rather than its suppliers, is the proper respondent with respect to its sales of TRBs to the United States. Therefore, Premier's suppliers need not undergo a separate-rates analysis. See the United States Sales section, below.

Separate-Rate Determinations for Non-Responsive Companies

We have preliminarily determined that companies which did not respond to the questionnaire should not receive separate rates. See the Use of Facts Otherwise Available section, below.

Use of Facts Otherwise Available

We preliminarily determine that companies which did not respond to our requests for information did not cooperate to the best of their ability. Thus, in accordance with sections 776(a) and (b) of the Act, the use of adverse facts available is appropriate for such companies. Furthermore, because factors data for certain of Premier's U.S. sales were not provided by Premier's suppliers, we preliminarily determine that such parties did not demonstrate that they cooperated to the best of their ability, and we have applied adverse facts available to calculate a portion of Premier's margin.

1. Companies that did not respond to the questionnaire: Where the Department must base its determination on facts available because a respondent failed to cooperate by not acting to the best of its ability to comply with a request for information, section 776(b) of the Act authorizes the Department to use inferences adverse to the interests of that respondent in choosing facts available. Section 776(b) of the Act also authorizes the Department to use as adverse facts available information derived from the petition, the final determination, a previous administrative review, or other information placed on the record. Information from prior segments of the proceeding constitutes secondary information and section 776(c) of the Act provides that the Department shall, to the extent practicable, corroborate that secondary information from independent sources reasonably at its disposal. The Statement of Administrative Action (“SAA”) provides that “corroborate” means simply that the Department will satisfy itself that the secondary information to be used has probative value (see H.R. Doc. 316, Vol. 1, 103d Cong., 2d Sess. 870 (1994)).

To corroborate secondary information, the Department will, to the extent practicable, examine the reliability and relevance of the information to be used. However, unlike other types of information, such as input costs or selling expenses, there are no independent sources for calculated dumping margins. Thus, in an administrative review, if the Department chooses as total adverse facts available a calculated dumping margin from a prior segment of the proceeding, it is not necessary to question the reliability of the margin for that time period. With respect to the relevance aspect of corroboration, however, the Department will consider information reasonably at its disposal as to whether there are circumstances that would render a margin inappropriate. Where circumstances indicate that the selected margin is not appropriate as adverse facts available, the Department will disregard the margin and determine an appropriate margin (see, e.g., Fresh Cut Flowers from Mexico; Final Results of Antidumping Duty Administrative Review, 61 FR 6812, 6814 (Feb. 22, 1996) (where the Department disregarded the highest margin as adverse facts available because the margin was based on another company's uncharacteristic business expense resulting in an unusually high margin)).

We have preliminarily assigned a margin of 33.18 percent to those companies for which we initiated a review and which did not respond to the questionnaire. This margin, calculated for sales by Xiangfan Machinery Import & Export (Group) Corp. during the 1996-97 review, represents the highest overall margin calculated for any firm during any segment of this proceeding. As discussed above, it is not necessary to question the reliability of a calculated margin from a prior segment of the proceeding. Further, there are no circumstances or documentation indicating that this margin is inappropriate as adverse facts available. Therefore, we preliminarily find that the 33.18 percent rate is corroborated.

As noted in the Separate Rates Determination section above, we have also preliminarily determined that the non-responsive companies should not receive separate rates. Thus, they are viewed as part of the PRC-wide entity. Accordingly, the facts available for these companies form the basis for the PRC rate, which is 33.18 percent for this review.

2. Premier: Premier, a Hong Kong-based reseller of TRBs, obtains TRBs from numerous PRC suppliers. Because Premier is only a reseller of TRBs and does not produce the subject merchandise itself, factors data must be obtained from its suppliers. In response to our questionnaire, Premier provided factors data from three of its seventeen suppliers. In addition to requesting factors data from Premier, we also requested factors data directly from Premier's suppliers. However, none responded. Consequently, we do not have factors data for all TRB models sold by Premier in the United States.

As in prior reviews, we have preliminarily determined that there is little variation in factor utilization rates among the TRB producers from which we have received FOP data (see, e.g., Tapered Roller Bearings and Parts Thereof, Finished and Unfinished, From the People's Republic of China; Preliminary Results of 1996-1997 Antidumping Duty Administrative Review and New Shipper Review, 63 FR 37339, 37342 (July 10, 1998) (“Preliminary TRBs X”)). Therefore, for the models for which we have appropriate information, we are using, as facts available, the factors data we received from manufacturers which did not supply Premier during the POR but manufactured the same models of TRBs, in order to calculate normal value.

For the sales of TRB models for which no factors data is available, we have preliminarily determined, in accordance with section 776(a) of the Act, to use facts available. The use of facts available is necessary because the necessary factors data for these models is not available on the record. We also preliminarily find, in accordance with section 776(b) of the Act, that in determining the appropriate facts available an adverse inference is warranted because interested parties did not cooperate to the best of their ability. Interested parties did not cooperate to the best of their ability because they refused to provide information specifically requested by the Department.

Thus, with respect to Premier's U.S. sales for which no corresponding factors data were reported, we are applying, as adverse facts available, a margin of 25.56 percent, the highest overall margin ever applicable to Premier. This approach is consistent with our final results in prior reviews (see, e.g., TRBs X 63 FR 63857). As discussed above, it is not necessary to question the reliability of a calculated margin from a prior segment of the proceeding. Further, there are no circumstances indicating that this margin is inappropriate as adverse facts available. Therefore, we preliminarily find that the 25.56 percent rate is corroborated.

United States Sales

Premier reported that it maintains inventories of TRBs in Hong Kong and sells TRBs worldwide. Therefore, its PRC-based suppliers have no knowledge when they sell to the Hong Kong firm that the shipments are destined for the United States. Because Premier is the first party to sell the merchandise to the United States, we have calculated U.S. price of this merchandise based on Premier's sales data.

For certain sales made by Premier and CMC we based the U.S. price on constructed export price (“CEP”) in accordance with section 772(b) of the Act because the first sale to an unaffiliated purchaser occurred after importation of the merchandise into the United States. For sales made by other respondents, as well as the other sales made by Premier and CMC, we based the U.S. sales on export price (“EP”), in accordance with section 772(a) of the Act, because the subject merchandise was sold to unaffiliated purchasers in the United States prior to importation into the United States and because the CEP methodology was not indicated by other circumstances.

We calculated EP based on the FOB, CIF, or C&F port prices to unaffiliated purchasers, as appropriate. From these prices we deducted amounts, where appropriate, for foreign inland freight, ocean freight, and marine insurance. We valued the deduction for foreign inland freight using surrogate data (Indian freight costs). (We selected India as the surrogate country for the reasons explained in the Normal Value section of this notice.) When marine insurance and ocean freight were provided by PRC-owned companies, we valued the deductions using the surrogate data (amounts charged by international providers). When marine insurance and ocean freight were provided directly by market economy companies and paid for in a market economy currency, we deducted the values reported by the respondents for these services.

We calculated CEP based on the packed, ex-warehouse prices from the U.S. subsidiary to unaffiliated customers. We made deductions, where appropriate, from the starting price for CEP for international freight, foreign brokerage and handling, foreign inland freight, marine insurance, customs duties, U.S. brokerage, U.S. inland freight insurance and U.S. inland freight. In accordance with section 772(d)(1) of the Act, we made further deductions from the starting price for CEP for the following selling expenses that related to economic activity in the United States: Commissions to unaffiliated agents; credit expenses; indirect selling expenses, including inventory carrying costs; and repacking in the United States. In accordance with section 772(d)(3) of the Act, we have deducted from the starting price an amount for profit.

Normal Value

Section 773(c)(1) of the Act provides that the Department shall determine normal value (“NV”) using a factors-of-production (“FOP”) methodology if: (1) The merchandise is exported from an NME, and (2) the information does not permit the calculation of NV under section 773(a) of the Act. The Department has treated the PRC as a non-market economy (“NME”) in all previous antidumping cases. In accordance with section 771(18)(C)(i) of the Act, any determination that a foreign country is an NME shall remain in effect until revoked by the Department. None of the parties to this proceeding has contested such treatment in this review. Moreover, parties to this proceeding have not argued that the PRC TRB industry is a market-oriented industry. Consequently, we have no basis to determine that the information would permit the calculation of NV using PRC prices or costs. Therefore, we calculated NV based on factors data in accordance with sections 773(c)(3) and (4) of the Act and section 351.408(c) of our regulations.

Similarly, we used factors data to calculate NV for Premier. Section 773(a)(3)(A) of the Act provides that when the merchandise is sold to the United States from an intermediate country, and the producer of subject merchandise knows, at the time of the sale, that its merchandise is destined for exportation, NV may be determined in the country of origin of the subject merchandise. Accordingly, we calculated NV for Premier on the basis of PRC production usage rates and surrogate country factor values.

Under the FOP methodology, we are required to value the NME producer's inputs in a comparable market economy country that is a significant producer of comparable merchandise. We chose India as the surrogate on the basis of the criteria set out in section 351.408(b) of our regulations. See the January 31, 2000, Memorandum to Susan Kuhbach from Jeff May “Tapered Roller Bearings from the People's Republic of China: Nonmarket Economy Status and Surrogate Country Selection,” and the June 29, 2000, Memorandum to Susan Kuhbach “Selection of a Surrogate Country and Steel Value Sources” (“Steel Values Memorandum”) for a further discussion of our surrogate selection. We selected Indonesia as a second-choice surrogate based on the same criteria. Id. We note that, in past reviews of this and other orders, we have found that both India and Indonesia are significant producers of TRBs (see, e.g., Tapered Roller Bearings and Parts Thereof, Finished and Unfinished, From the People's Republic of China; Final Results of 1997-1998 Antidumping Duty Administrative Review and Final Results of New Shipper Review, 64 FR 61837, 61840 (November 15, 1999) (“TRBs XI”) and Tapered Roller Bearings and Parts Thereof, Finished or Unfinished, From Romania; Preliminary Results of Antidumping Administrative Review, 63 FR 11217 (March 6, 1998)).

We used publicly available information on Indian imports and exports to India to value the various factors with the exception of the following: Cold-rolled steel rods used in the production of rollers and steel scrap from the production of rollers. To value cold-rolled steel rods used in the production of rollers we used publicly available Indonesian import data. We used these data because we found the Indian data for those inputs to be unreliable. (See Steel Values Memorandum.) We valued steel scrap from the production of rollers using Indonesian data in order to value it consistently with the steel used to produce the rollers.

We valued factors as follows (for a complete description of the factor values used, see the Memorandum to Susan Kuhbach: “Factors of Production Values Used for the Preliminary Results,” dated June 29, 2000):

1. Steel Inputs. For hot-rolled alloy steel bars used in the production of cups and cones, consistent with TRBs XI, we used a weighted average of Japanese export values to India from the Harmonized Schedule (“HS”) category 7228.30.900 obtained from Official Japan Ministry of Finance statistics. For cold-rolled steel rods used in the production of rollers, we used Indonesian import data under Indonesian tariff subheading 7228.50000 obtained from Badan Pusat Statistik, Republik Indonesia. For cold-rolled steel sheet for the production of cages, we used Indian import data under Indian tariff subheading 7206.1600 obtained from the Monthly Statistics of the Foreign Trade of India, Vol. II—Imports. (For further discussion of selection of steel value sources, see Steel Values Memorandum.)

As in previous administrative reviews, we eliminated from our calculation steel imports from NME countries and imports from market economy countries that were made in small quantities. For steel used in the production of cups, cones, and rollers, we also excluded imports from countries that do not produce bearing-quality steel (see, e.g., TRBs XI). We made adjustments to include freight costs incurred using the shorter of the reported distances from either the closest PRC port to the TRBs factory or the domestic supplier to the TRBs factory (see Notice of Final Determination of Sales at Less Than Fair Value: Collated Roofing Nails From the People's Republic of China, 62 FR 51410 (October 1, 1997), and Sigma Corporation v. United States, 117 F. 3d 1401 (Fed. Cir. 1997)).

Certain producers in this review purchased steel from market economy suppliers and paid for the steel with market economy currency. Thus, in accordance with section 351.408(c)(1) of our regulations, we valued all appropriate steel inputs using the actual price reported for directly imported inputs from a market economy. For all other steel inputs, we used a surrogate to value that steel.

We valued scrap recovered from the production of cups and cones using Indian import statistics from HS category 7204.2909. We valued scrap recovered from the production of rollers using Indonesian import data from Indonesian tariff category 7204.29000. Scrap recovered from the production of cages was valued using import data from the Indian tariff subheading 7204.4100.

2. Labor. Section 351.408(c)(3) of our regulations requires the use of a regression-based wage rate. We have used the regression-based wage rate on Import Administration's internet website at www.ita.doc.gov/import_admin/records/wages.

3. Overhead, SG&A Expenses, and Profit. For factory overhead, we used information obtained from the fiscal year 1998-99 annual reports of five Indian bearing producers. We calculated factory overhead and selling, general and administrative (“SG&A”) expenses (exclusive of labor and electricity) as percentages of direct inputs (also exclusive of labor) and applied these ratios to each producer's direct input costs. For profit, we totaled the reported profit before taxes for the five Indian bearing producers and divided it by the total calculated cost of production (“COP”) of goods sold. This percentage was applied to each respondent's total COP to derive a company-specific profit value.

4. Packing. As we did in TRBs XI (see Tapered Roller Bearings and Parts Thereof, Finished and Unfinished, From the People's Republic of China; Preliminary Results of 1997-1998 Antidumping Duty Administrative Review and Partial Recission of Antidumping Duty Administrative Review, 64 FR 36853 (July 8, 1999)), for producers that participated in the 1996-1997 review, except for Wafangdian, we calculated packing costs as a percentage of COP for each respondent based on the information submitted in that review. This ratio was applied to the respondents' COP for the current review to derive a POR-specific, company-specific packing expense. Consistent with TRBs XI, we calculated the value of packing materials by using Indian import statistics concurrent with the POR from the Monthly Statistics of the Foreign Trade of India, Vol. II—Imports for (1) producers that did not participate in that review and do not have a packing cost percentage already calculated, and (2) Wafangdian since it reported different packing materials from those reported in the 1996-1997 review. We then multiplied these figures by the usage factor reported by the company to calculate company-specific packing costs.

5. Electricity. Consistent with our approach in Manganese Metal from the People's Republic of China; Final Results of Antidumping Duty Administrative Review, 65 FR 30067 (May 10, 2000), we calculated our surrogate value for electricity based on a simple average of rates across all Indian states, using the most contemporaneous electricity rate data from the Centre for Monitoring Indian Economy and the 1995 Conference of Indian Industries: Handbook of Statistics. For each Indian state's rate, we inflated the value from the effective date of the rate quote to the POR using the electricity-specific price index published by the Reserve Bank of India.

6. Inland Freight. We valued truck freight using an average of November 1999 truck freight rate quotes collected from Indian trucking companies by the Department and used in the Notice of Preliminary Determination of Sales at Less than Fair Value: Bulk Aspirin from the People's Republic of China, 65 FR 116 (January 3, 2000) (“Bulk Aspirin from the PRC”). We valued rail freight using two November 1999 rate quotes for domestic bearing quality steel shipments within India that were also used in Bulk Aspirin from the PRC. We adjusted the rates for both truck and rail freight to the POR using wholesale price indices (“WPI”).

7. Ocean Freight. We calculated a value for ocean freight based on July 1996 rate quotes from Maersk Inc. We adjusted the ocean freight rate to the POR using the U.S. purchase price index.

8. Marine Insurance. We calculated a value for marine insurance based on the CIF value of shipped TRBs. We obtained the rate used through queries we made directly to an international marine insurance provider.

9. Brokerage and Handling. We used the public version of a U.S. sales listing reported in the questionnaire response submitted by Meltroll Engineering in the Preliminary Results of Antidumping Duty Administrative Review and New Shipper Review and Partial Rescission of Administrative Review, 65 FR 12209 (March 8, 2000). Because this information is contemporaneous with the current POR, no adjustments were necessary.

Torch Spark Plug

Torch shipped TRBs to an affiliated Canadian party during the POR. According to Torch, the TRBs were originally intended for shipment to Canada. However, they entered the United States and, according to Torch, were erroneously categorized as consumption entries. Torch has provided documentation demonstrating that the merchandise has not been sold to an unaffiliated party in the United States. In situations where an affiliated importer enters merchandise during a review period, but does not sell that merchandise during the POR, our normal practice is to liquidate the entries based on other sales of the merchandise made by the affiliated importer during the POR ¹. In this case, however, the company has indicated that it does not intend to sell this merchandise in the United States. Consequently, we would have no basis to calculate a dumping margin for this merchandise. Accordingly, we intend to liquidate the merchandise in question without regard to any dumping liability if certain requirements are met. For a further discussion of this issue, please see the Memorandum to Susan Kuhbach from Team: “Review of Zhuzhou Torch Spark Plug Company, Ltd.,” dated June 29, 2000.

¹ Silicon Metal from Brazil; Final Results of Antidumping Duty Administration {sic} Review, 61 FR 46763 (September 5, 1996).

Revocation

Pursuant to 19 CFR 351.222(e)(1), CMC, Wafangdian, Wangxiang, and ZMC requested revocation of the antidumping duty order, in part, based on an absence of dumping for at least three consecutive years. In accordance with 19 CFR 351.222(e), these companies' requests were accompanied by certifications that they had not sold the subject merchandise at less than normal value during the current period of review and would not do so in the future. They further certified that they sold the subject merchandise to the United States in commercial quantities for a period of at least three consecutive years. The companies also agreed to immediate reinstatement of the antidumping duty order, as long as any exporter or producer is subject to the order, if the Department concludes that, subsequent to the revocation, the companies sold the subject merchandise at less than normal value.

In light of the above and pursuant to 19 CFR 351.222, as amended by Amended Regulation Concerning the Revocation of Antidumping and Countervailing Duty Orders, 64 FR 51236 (September 22, 1999), we preliminarily find for CMC, Wangxiang, and ZMC that the subject merchandise was sold at not less than normal value for a period of at least three consecutive years and that dumping is not likely to resume in the future and consequently the continuing imposition of an antidumping duty is not necessary to offset dumping. Therefore, we preliminarily find that these three companies qualify for revocation of the order on TRBs pursuant to 19 CFR 351.222(b) and intend to revoke the order in part with respect to these companies in our final results. As indicated below, we preliminarily find that a dumping margin exists for Wafangdian. As such, we preliminarily find that Wafangdian does not qualify for revocation.

Preliminary Results of the Review

We preliminarily determine that the following dumping margins exist for the period June 1, 1998, through May 31, 1999:

Manufacturer/exporter | Margin (percent)
Wafangdian | 4.54
Wangxiang | 0.00
CMC | 0.00
ZMC | 0.00
Liaoning | 0.00
Hailin | 0.00
Weihai | 0.00
Luoyang | 4.16
Premier | 5.27
PRC Rate | 33.18

Any interested party may request a hearing within 30 days of the date of publication of this notice. Any hearing, if requested, will be held 42 days after the publication of this notice, or the first workday thereafter. Issues raised in hearings will be limited to those raised in the respective case and rebuttal briefs. Interested parties may submit case briefs within 30 days of the date of publication of this notice. Rebuttal briefs, which must be limited to issues raised in the case briefs, may be filed not later than 35 days after the date of publication of this notice. Parties who submit case briefs or rebuttal briefs in this review are requested to submit with each argument (1) a statement of the issue and (2) a brief summary of the argument with an electronic version included.

The Department will publish the final results of this administrative review, including the results of its analysis of issues raised in any such written briefs or hearing, within 120 days of publication of these preliminary results.

The Department shall determine, and the Customs Service shall assess, antidumping duties on all appropriate entries. With respect to EP sales for these preliminary results, we divided the total dumping margins (calculated as the difference between NV and EP) for each importer/customer by the total number of units sold to that importer/customer. If these preliminary results are adopted in our final results of administrative review, we will direct the Customs Service to assess the resulting per-unit dollar amount against each unit of merchandise in each of that importer's/customer's entries under the order during the review period.

For CEP sales, we divided the total dumping margins for the reviewed sales by the total entered value of those reviewed sales for each importer/customer. If these preliminary results are adopted in our final results of administrative review, we will direct Customs to assess the resulting percentage margin against the entered Customs values for the subject merchandise on each of that importer's/customer's entries during the review period.

The following cash deposit requirements will be effective upon publication of the final results of this administrative review for all shipments of the subject merchandise entered, or withdrawn from warehouse, for consumption on or after the publication date, as provided for by section 751(a)(1) of the Act: (1) For the PRC companies named above, the cash deposit rates will be the rates for these firms established in the final results of this review, except that, for exporters with de minimis rates, i.e., less than 0.50 percent, no deposit will be required; (2) for previously-reviewed PRC and non-PRC exporters with separate rates, the cash deposit rate will be the company-specific rate established for the most recent period during which they were reviewed; (3) for all other PRC exporters, the rate will be the PRC country-wide rate, which is 33.12 percent; and (4) for all other non-PRC exporters of subject merchandise from the PRC, the cash deposit rate will be the rate applicable to the PRC supplier of that exporter. These deposit requirements, when imposed, shall remain in effect until publication of the final results of the next administrative review.

This notice also serves as a preliminary reminder to importers of their responsibility under section 351.402(f) of our regulations to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act.

Dated: June 29, 2000.
Troy H. Cribb,
Acting Assistant Secretary for Import Administration.

[FR Doc. 00-17246 Filed 7-6-00; 8:45 am]

BILLING CODE 3510-DS-P